DEPARTMENT OF HEALTH AND HUMAN SERVICES

Health Resources and Services Administration

Advisory Committee on Heritable Disorders and Genetic Diseases in Newborns and Children; Notice of Meeting

In accordance with section 10(a)(2) of the Federal Advisory Committee Act (Pub. L. 92-463), notice is hereby given of the following meeting:

Name: Advisory Committee on Heritable Disorders and Genetic Diseases in Newborns and Children (ACHDGDNC).

Dates and Times: May 17, 2007, 9 a.m. to 5 p.m. May 18, 2007, 8:30 a.m. to 3 p.m.

Place: Ronald Reagan Building and International Trade Center, Rotunda Room, 1300 Pennsylvania Avenue, NW., Washington, DC 20004.

Status: The meeting will be open to the public with attendance limited to space availability.

Purpose: The Advisory Committee was established to advise and guide the Secretary regarding the most appropriate application of universal newborn screening tests, technologies, policies, guidelines and programs for effectively reducing morbidity and mortality in newborns and children having or at risk for heritable disorders. The Committee also provides advice and recommendations concerning the grants and projects authorized under the Heritable Disorders Program.

Agenda: The first day will be devoted to discussion of the Committee's decisionmaking process, including a discussion of the evidence review group's nomination/evaluation process for candidate conditions on the uniform newborn screening panel, and an evaluation of the system infrastructure for long-term follow-up and proposals for strategies for such follow-up. The Committee's subcommittees on Laboratory Standards and Procedures, Follow-up and Treatment, and Education and Training will meet in the afternoon. The second day will include a report from the Department of Defense on its newborn screening program and activities and reports to the Committee by its subcommittees on Laboratory Standards and Procedures, Follow-up and Treatment, and Education and Training.

Proposed agenda items are subject to change.

Time will be provided each day for public comment. Individuals who wish to provide public comment or who plan to attend the meeting and need special assistance, such as sign language interpretation or other reasonable accommodations, should notify the ACHDGDNC Staff, Jill F. Shuger, M.S. (contact information provided below).

Contact Person: Anyone interested in obtaining a roster of members or other relevant information should write or contact Jill F. Shuger, M.S., Maternal and Child Health Bureau, Health Resources and Services Administration, Room 18A-19, Parklawn Building, 5600 Fishers Lane, Rockville, Maryland 20857, Telephone (301) 443-1080. Information on the Advisory Committee is available at http://mchb.hrsa.gov/programs/genetics/committee.

Dated: March 15, 2007.
Alexandra Huttinger,
Acting Director, Division of Policy Review and Coordination.

[FR Doc. E7-5300 Filed 3-22-07; 8:45 am]

BILLING CODE 4165-15-P